DEPARTMENT OF ENERGY

Federal Energy Regulatory Commission

[Docket No. EC00-65-000, et al.]

Avista Energy, Inc., et al.; Electric Rate and Corporate Regulation Filings

March 24, 2000.

Take notice that the following filings have been made with the Commission:

1. Avista Energy, Inc.

[Docket No. EC00-65-000]

Take notice that on March 17, 2000, Avista Energy, Inc, (Avista Energy) submitted for filing an application for authorization under Federal Power Act Section 203 for the disposition of Avista Energy's rights and obligations under certain of its wholesale power agreements, and associated books and records, to Constellation Power Source, Inc. Avista Energy requests expedited approval of the application.

Comment date: April 17, 2000, in accordance with Standard Paragraph E at the end of this notice.

2. PJM Interconnection, L.L.C.

[Docket No. ER00-1794-001]

Take notice that on March 22, 2000, PJM Interconnection, L.L.C. ( PJM), supplemented its March 3, 2000 filing in this docket by tendering a Revised Exhibit 1 that corrects a typographical error in the originally filed exhibit.

Copies of this supplemental filing were served upon all PJM Members and the state electric regulatory commissions in the PJM Control Area.

Comment date: April 12, 2000, in accordance with Standard Paragraph E at the end of this notice.

3. Sun River Electric Cooperative, Inc.

[Docket Nos. ER00-1920-000]

Take notice that on March 20, 2000, Sun River Electric Cooperative, Inc. (SREC) submitted for filing its Agreement for Transmission Service between Montana Power Company and Sun River Electric Cooperative, Inc. (Agreement), pursuant to Section 205 of the Federal Power Act (FPA), 16 U.S.C. § 824d, and Section 35.12 of the Regulations of the Federal Energy Regulatory Commission (Commission), 18 CFR 35.12. SREC's filing is available for public inspection at its offices in Fairfield, Montana.

SREC requests that the Commission accept the Agreement with an effective date of March 24, 2000.

Comment date: April 10, 2000, in accordance with Standard Paragraph E at the end of this notice.

4. Allegheny Energy Service Corporation, on Behalf of Monongahela Power Company, The Potomac Edison Company, and West Penn Power Company (Allegheny Power)

[Docket No. ER00-1927-000]

Take notice that on March 21, 2000, Allegheny Energy Service Corporation on behalf of West Penn Power Company (Allegheny Power), filed an Interconnection Agreement (Agreement) with Allegheny Energy Unit 1 and Unit 2, LLC.

The proposed effective date under the Agreement is November 15, 1999.

Copies of the filing have been provided to the Public Utilities Commission of Ohio, the Pennsylvania Public Utility Commission, the Maryland Public Service Commission, the Virginia State Corporation Commission, and the West Virginia Public Service Commission.

Comment date: April 11, 2000, in accordance with Standard Paragraph E at the end of this notice.

5. Western New York Wind Corp.

[Docket No. ER00-1928-000]

Take notice that on March 21, 2000, Western New York Wind Corp. (Western Wind), a New York corporation with its headquarters in Wyoming County, New York, tendered for filing, pursuant to Rule 207 of the Commission's Rules of Practice and Procedure, 18 CFR 385.207, an initial rate schedule for the sale of electricity at market-based rates.

Western Wind requests that its tariff become effective May 18, 2000.

Comment date: April 11, 2000, in accordance with Standard Paragraph E at the end of this notice.

6. Central Illinois Light Company

[Docket No. ER00-1929-000]

Take notice that on March 21, 2000, Central Illinois Light Company (CILCO), 300 Liberty Street, Peoria, Illinois 61602, tendered for filing with the Commission a substitute Index of Point-To-Point Transmission Service Customers under its Open Access Transmission Tariff and service agreements for one new customer, Allegheny Energy Supply Company, LLC.

CILCO requested an effective date of March 10, 2000 for the service agreements.

Copies of the filing were served on the affected customer and the Illinois Commerce Commission.

Comment date: April 11, 2000, in accordance with Standard Paragraph E at the end of this notice.

7. Allegheny Energy Service Corporation, on Behalf of Allegheny Energy Supply Company, LLC

[Docket No. ER00-1930-000]

Take notice that on March 21, 2000, Allegheny Energy Service Corporation on behalf of Allegheny Energy Supply Company, LLC (Allegheny Energy Supply Company) filed Amendment No. 3 to Supplement No. 9 to complete the filing requirement for one (1) new Customer of the Market Rate Tariff under which Allegheny Energy Supply offers generation services.

Allegheny Energy requests a waiver of notice requirements to make service available as of November 24, 1999, to Strategic Energy L.L.C.

Copies of the filing have been provided to the Public Utilities Commission of Ohio, the Pennsylvania Public Utility Commission, the Maryland Public Service Commission, the Virginia State Corporation Commission, the West Virginia Public Service Commission, and all parties of record.

Comment date: April 11, 2000, in accordance with Standard Paragraph E at the end of this notice.

8. PJM Interconnection, L.L.C.

[Docket No. ER00-1931-000]

Take notice that on March 21, 2000, PJM Interconnection, L.L.C. (PJM) tendered for filing Southern Company Retail Energy Marketing L.P.'s signature page to the Reliability Assurance Agreement among Load Serving Entities in the PJM Control Area (RAA), and an amended Schedule 17 listing the parties to the RAA.

PJM states that it served a copy of its filing on all parties to the RAA, including Southern Company Retail Energy Marketing L.P., and each of the state electric regulatory commissions within the PJM Control Area.

Comment date: April 11, 2000, in accordance with Standard Paragraph E at the end of this notice.

9. PJM Interconnection, L.L.C.

[Docket No. ER00-1932-000]

Take notice that on March 21, 2000, PJM Interconnection, L.L.C. (PJM), tendered for filing two executed service agreements. One agreement is a long-term firm point-to-point transmission service with Delmarva Power & Light Company, and the other is an umbrella service agreement for network integration transmission service under state required retail access programs with EconnergyEnergy Company, Inc.

Copies of this filing were served upon both Delmarva Power & Light Company and EconnergyEnergy Company, Inc.

The requested effective dates of the service agreements are March 7, 2000 for Delmarva Power & Light Company and March 3, 2000 for EconnergyEnergy Company, Inc.

Comment date: April 11, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-7834 Filed 3-29-00; 8:45 am]

BILLING CODE 6717-01-P